DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: ITA Environmental Technologies Non-Tariff Barriers Survey.

OMB Control Number: 0625-0241.

Form Number(s): ITA-4150P.

Type of Request: Regular submission.

Burden Hours: 33.

Number of Respondents: 200.

Average Hours per Response: 10 minutes.

Needs and Uses: The environmental technologies industry has consistently cited the proliferation of non-tariff barriers as a factor that is making increased U.S. exports in this sector more difficult. This factor has been cited across all subsectors of environmental technologies products and all global geographic regions. The collection of information related to the experience of U.S. exporters with regard to these non-tariff measures is essential to the mission of the U.S. Department of Commerce Office of Energy and Environmental Industries. It also allows accurate market analysis as well as support to industry in its export efforts and to the U.S. government in its trade negotiation efforts.

Affected Public: Business or other for-profit organizations.

Frequency: On occasion.

Respondent's Obligation: Voluntary.

OMB Desk Officer: Wendy Liberante, (202) 395-3647.

Copies of the above information collection proposal can be obtained by calling or writing Diana Hynek, Departmental Paperwork Clearance Officer, (202) 482-0266, Department of Commerce, Room 6625, 14th and Constitution Avenue, NW., Washington, DC 20230 (or via the Internet at dHynek@doc.gov.

Written comments and recommendations for the proposed information collection should be sent within 30 days of publication of this notice to Wendy Liberante, OMB Desk Officer, Fax number (202) 395-7285 or via the Internet at Wendy_L._Liberante@omb.eop.gov.

Dated: April 21, 2010.
Gwellnar Banks,
Management Analyst, Office of the Chief Information Officer.

[FR Doc. 2010-9570 Filed 4-23-10; 8:45 am]

BILLING CODE 3510-DR-P